DEPARTMENT OF THE INTERIOR

National Park Service

[NPS-WASO-NAGPRA-NPS0035251; PPWOCRADN0-PCU00RP14.R50000]

Notice of Intent To Repatriate Cultural Items: Emory University, Michael C. Carlos Museum, Atlanta, GA

AGENCY: National Park Service, Interior.

ACTION: Notice.

SUMMARY: In accordance with the Native American Graves Protection and Repatriation Act (NAGPRA), Emory University, Michael C. Carlos Museum (Emory) intends to repatriate certain cultural items that meet the definition of unassociated funerary objects and that have a cultural affiliation with the Indian Tribes or Native Hawaiian organizations in this notice. The cultural items were removed from Bartow County, GA.

DATES: Repatriation of the cultural items in this notice may occur on or after March 6, 2023.

ADDRESSES: Todd Lamkin, Michael C. Carlos Museum, 571 S Kilgo Circle, Atlanta, GA 30322, telephone (404) 727-4456, email tlamkin@emory.edu.

SUPPLEMENTARY INFORMATION: This notice is published as part of the National Park Service's administrative responsibilities under NAGPRA. The determinations in this notice are the sole responsibility of Emory. The National Park Service is not responsible for the determinations in this notice. Additional information on the determinations in this notice, including the results of consultation, can be found in the summary or related records held by Emory.

Description

Between 1925 and 1928, seven cultural items were removed from the Etowah site (Mound C or nearby), in Bartow County, GA, under the direction of Warren K. Moorehead of Phillips Academy, Andover, MA. Sometime prior to 1931, Phillips Academy donated the objects to the Michael C. Carlos Museum. The seven unassociated funerary objects are two shell gorgets (X.0232.007, X.0232.008); two sets of beads (X.0233.003, X.0233.004); and three bowls (X.0232.005, X.0232.006, X.0232.029).

Cultural affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological, historical, oral traditional, and expert opinion.

Determinations

Pursuant to NAGPRA and its implementing regulations, and after consultation with the appropriate Indian Tribes and Native Hawaiian organizations, Emory University, Michael C. Carlos Museum has determined that:

• The seven cultural items described above are reasonably believed to have been placed with or near individual human remains at the time of death or later as part of the death rite or ceremony and are believed, by a preponderance of the evidence, to have been removed from a specific burial site of a Native American individual.

• There is a relationship of shared group identity that can be reasonably traced between the cultural items and The Muscogee (Creek) Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 6, 2023. If competing requests for repatriation are received, Emory must determine the most appropriate requestor prior to repatriation. Requests for joint repatriation of the cultural items are considered a single request and not competing requests. Emory is responsible for sending a copy of this notice to the Indian Tribes and Native Hawaiian organizations identified in this notice.

Authority: Native American Graves Protection and Repatriation Act, 25 U.S.C. 3003, and the implementing regulations, 43 CFR 10.8, 10.10, and 10.14.

Dated: January 27, 2023.
Melanie O'Brien,
Manager, National NAGPRA Program.

[FR Doc. 2023-02274 Filed 2-2-23; 8:45 am]

BILLING CODE 4312-52-P